DEPARTMENT OF COMMERCE

International Trade Administration

[A-570-901]

Certain Lined Paper Products From the People's Republic of China: Extension of Time Limits for Preliminary Results of Antidumping Duty Administrative Review

AGENCY: Import Administration, International Trade Administration, Department of Commerce.

EFFECTIVE DATE: June 5, 2008.

FOR FURTHER INFORMATION CONTACT: Christopher Hargett, AD/CVD Operations, Office 3, Import Administration, International Trade Administration, U.S. Department of Commerce, 14th Street and Constitution Avenue, NW., Washington, DC 20230, telephone: (202) 482-4161.

SUPPLEMENTARY INFORMATION:

Background

On October 31, 2007, the U.S. Department of Commerce (“Department”) published a notice of initiation of the administrative review of the antidumping duty order on certain lined paper products from the People's Republic of China, covering the period April 17, 2006 to August 31, 2007. See Initiation of Antidumping and Countervailing Duty Administrative Reviews, 72 FR 61621 (October 31, 2007). The preliminary results of this review are currently due no later than June 1, 2008.

Extension of Time Limit of Preliminary Results

Section 751(a)(3)(A) of the Tariff Act of 1930, as amended (“the Act”), requires the Department to issue preliminary results within 245 days after the last day of the anniversary month of an order for which a review is requested. Section 751(a)(3)(A) of the Act further states that if it is not practicable to complete the review within the time period specified, the administering authority may extend the 245-day period to issue its preliminary results to up to 365 days.

We determine that completion of the preliminary results of this review within the 245-day period is not practicable for the following reasons. The mandatory respondent has complex cost allocation issues which require the Department to gather and analyze a significant amount of information associated with the factors of production and manufacturing costs. In addition, petitioner, Association of American School Paper Suppliers, has raised other issues which require the collection of additional information and has requested that the Department extend the preliminary results to allow more time to analyze these issues. Given the number and complexity of issues in this case and the Department's resource constraints, and in accordance with section 751(a)(3)(A) of the Act, we are extending the time period for issuing the preliminary results of review by 120 days. Therefore, the preliminary results are now due no later than September 29, 2008. The final results continue to be due 120 days after publication of the preliminary results.

This notice is issued and published pursuant to section 751(a)(3)(A) and 771(i)(1) of the Act.

Dated: May 30, 2008.
Stephan J. Claeys,
Deputy Assistant Secretary for Import Administration.

[FR Doc. E8-12605 Filed 6-4-08; 8:45 am]

BILLING CODE 3510-DS-P